DEPARTMENT OF THE INTERIOR

Fish and Wildlife Service

Endangered and Threatened Species Permit Application

AGENCY: Fish and Wildlife Service, Interior.

ACTION: Notice of receipt of application.

The following applicant has applied for a permit to conduct certain activities with endangered species. This notice is provided pursuant to section 10(c) of the Endangered Species Act of 1973, as amended (16 U.S.C. 1531, et seq.).

Permit Number TE022454-0

Applicant: The Nature Conservancy, Michigan Chapter, East Lansing, Michigan; Helen Taylor, State Director

The applicant requests a permit for the purpose of determining management strategies for the Karner blue butterfly (Lycaeides melissa samuelis) in southwestern Newaygo County, Michigan. The applicant proposes to complete the following activities which may take the Karner blue butterfly: (1) Control and eliminate invasive alien plants, particularly spotted knapweed (Centaurea maculosa), by the initiation of a proposed burn regime, hand-pulling and spot-burning, (2) research and monitoring of the species to determine the impacts of the management regime described above, and (3) to expand and restore suitable habitat for occupation by the species. Take (kill, harass) is expected to occur in association with proposed activities. Activities are proposed for the enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who submits a written request for a copy of such documents to the following office within 30 days of the date of publication of this notice: U.S. Fish and Wildlife Service, Ecological Services Operations, 1 Federal Drive, Fort Snelling, Minnesota 55111-4056. Telephone: (612/713-5350); FAX: (612/713-5292).

Dated: February 3, 2000.
Charles M. Wooley,
Assistant Regional Director, Ecological Services, Region 3, Fort Snelling, Minnesota.

[FR Doc. 00-2986 Filed 2-8-00; 8:45 am]

BILLING CODE 4310-55-P